DEPARTMENT OF LABOR

Employment and Training Administration

[TA-W-50,016]

Laird Techonolgies, Delaware Watergap, PA; Notice of Negative Determination on Reconsideration

By application of February 11, 2003, a petitioner requested administrative reconsideration of the Department's negative determination regarding eligibility to apply for Trade Adjustment Assistance (TAA), applicable to workers and former workers of the subject firm. The denial notice was signed on February 3, 2003, and will soon be published in the Federal Register.

The petition for the workers of Laird Technologies, Delaware Watergap, Pennsylvania was denied because the “contributed importantly” group eligibility requirement of section 222(3) of the Trade Act of 1974, as amended, was not met. The “contributed importantly” test is generally demonstrated through a survey of customers of the workers' firm. The survey revealed that none of the respondents increased their purchases of imported metal stampings.

The petitioner states that the Department did not address allegations indicated in the petition of the subject firm as a “secondarily” affected firm. The petitioner further states that a list of trade certified firms that were also subject firm customers was attached to the petition.

Upon review of the original investigation, it appears that the Department overlooked the petitioners' assertion that they acted as an upstream supplier to firms listed on an attached page that were allegedly trade certified. A company official was contacted in regard to this list of customers in order to establish which facility locations may have been customers of the subject firm in the relevant period, and the amount of business that these customers accounted for at the subject firm. Of the listed firms that were revealed as trade certified, the customer sales data provided by the company official revealed that these customers cumulatively accounted for a negligible amount of the customer base, and thus did not contribute to layoffs at the subject firm.

Furthermore, as established in the original investigation, the preponderance in sales, production and employment declines are attributed to the subject firm's shifting a portion of production that services the export market, and therefore is unrelated to import impact.

In conclusion, the “upstream supplier” group eligibility requirement of section 222(b) of the Trade Act of 1974, as amended, was not met.

Conclusion

After reconsideration, I affirm the original notice of negative determination of eligibility to apply for worker adjustment assistance for workers and former workers of Laird Technologies, Delaware Watergap, Pennsylvania.

Signed at Washington, DC this 2nd day of April, 2003.
Edward A. Tomchick,
Director, Division of Trade Adjustment Assistance.

[FR Doc. 03-9147 Filed 4-14-03; 8:45 am]

BILLING CODE 4510-30-P